SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before April 28, 2008.

ADDRESSES: Send all comments regarding whether this information collection is necessary for the proper performance of the function of the agency, whether the burden estimates are accurate, and if there are ways to minimize the estimated burden and enhance the quality of the collection, to Robert Dillier, Public Affairs Specialist, Office of Communications, Small Business Administration, 409 3rd Street, SW., 8th Suite 7450, Wash., DC 20416

FOR FURTHER INFORMATION CONTACT: Robert Dillier, Public Affairs Specialist, Office of Communications, 202-205-6086 robert.dillier@sba.gov. Curtis B. Rich, Management Analyst, 202-205-7030 curtis.rich@sba.gov.

SUPPLEMENTARY INFORMATION: Title: “U.S. Small Business Administration Advisory Committee Membership-Nominee Information”.

Description of Respondents: To collect information for Candidates for Advisory Council.

Form No: 898.

Annual Responses: 100.

Annual Burden: 100.

ADDRESSES: Send all comments regarding whether this information collection is necessary for the proper performance of the function of the agency, whether the burden estimates are accurate, and if there are ways to minimize the estimated burden and enhance the quality of the collection, to Charles Ou, Senior Economist, Office of Advocacy, Small Business Administration, 409 3rd Street, SW., 7th Floor, Wash., DC 20416.

FOR FURTHER INFORMATION CONTACT: Charles Ou, Senior Economist, Office of Advocacy, 202-255-6966 charles.ou@sba.gov. Curtis B. Rich, Management Analyst, 202-205-7030 curtis.rich@sba.gov.

SUPPLEMENTARY INFORMATION:

Title: “Survey of Small Business Lending Practices”.

Description of Respondents: Senior Executives in banks and thrifts who are knowledgeable about credit risk and lending practices for small business.

Form No: 2269.

Annual Responses: 1,200.

Annual Burden: 300.

ADDRESSES: Send all comments regarding whether this information collection is necessary for the proper performance of the function of the agency, whether the burden estimates are accurate, and if there are ways to minimize the estimated burden and enhance the quality of the collection, to Johnny Kitts, Chief, Fund Administration Branch, Office of Investment, Small Business Administration, 409 3rd Street, SW., 6th Floor, Wash., DC 20416.

FOR FURTHER INFORMATION CONTACT: Johnny Kitts, Chief, Fund Administration Branch, Office of Investment, 202-205-7587 johnny.kitts@sba.gov. Curtis B. Rich, Management Analyst, 202-205-7030 curtis.rich@sba.gov.

SUPPLEMENTARY INFORMATION: Title: “25-Model Corp. Resol. or GP Certif., 33-Model Letter to Selling Agent, 34-Bank ID, 1065-Appl. Lic. Assure. of Compliance”.

Description of Respondents: Applicants for SBA-Guarantee Leverages.

Form No's: 25, 33, 34, 1065.

Annual Responses: 50.

Annual Burden: 45.

Jacqueline White,
Chief, Administrative Information Branch.

[FR Doc. E8-3670 Filed 2-26-08; 8:45 am]

BILLING CODE 8025-01-P